DEPARTMENT OF ENERGY

Federal Energy Regulatory Commission

[Docket Nos., ER17-718-000, ER17-721-000, ER17-729-000]

PJM Interconnection, L.L.C.; Midcontinent Independent System Operator Inc.; PJM Transmission Owners; Notice of Workshop

Take notice that the Staff of the Federal Energy Regulatory Commission plans to hold a workshop to address issues raised in the captioned dockets regarding the Targeted Market Efficiency Projects proposal. A specific date and time for the workshop will be set via supplemental notice. The workshop will be held at the Federal Energy Regulatory Commission, 888 First Street NE., Washington, DC 20426. The workshop will be transcribed. All interested parties are invited to attend.

Dated: May 19, 2017.
Kimberly D. Bose,
Secretary.

[FR Doc. 2017-10822 Filed 5-25-17; 8:45 am]

BILLING CODE 6717-01-P